DEPARTMENT OF AGRICULTURE

Forest Service

Notice of Proposed New Fee Sites, Federal Lands Recreation Enhancement Act (Title VIII, Pub. L. 108-447)

AGENCY: Willamette National Forest, Forest Service, USDA.

ACTION: Notice of Proposed New Fee Sites.

SUMMARY: The Willamette National Forest is planning to charge fees at three recreation sites in 2008. All sites are undergoing reconstruction or amenities are being added to improve services and experiences. Fees are assessed based on the level of amenities and services provided, cost of operation and maintenance and a market assessment. Funds from fees will be used to help cover the cost of continued operation and maintenance of these recreation sites.

Three Pools Day Use Area, and Piety Island and Lost Lake Campgrounds are currently fee free sites. New improvements have been made at Piety Island Campground including: the establishment of 22 designated sites with tent pads, picnic tables and fire rings, information boards, new toilets, and garbage service. The proposed fee for Piety Island Campground, a boat-in site, is $10 per campsite and $20 for a multiple site. New fire rings and picnic tables will be added at Lost Lake Campground. Proposed fees for Lost Lake Campground is $8 per campsite and $4 for one extra vehicle.

A $5 day use is being proposed at Three Pools Day Use Area. Recreation passes would be honored and include Northwest Forest Pass, Interagency Passes and Golden Passports. Reconstruction at this site will begin in September of 2007 and includes paved parking for 100 vehicles, improved trails, information and interpretive signing, picnic sites and site restoration.

DATES: New fees would begin after March 2008 and contingent upon completion of improvements and Regional Forester Approval.

ADDRESSES: Dallas Emch, Forest Supervisor, Willamette National Forest, 211 East 7th Avenue, Eugene, Oregon 97401.

FOR FURTHER INFORMATION CONTACT: Dani Pavoni, Recreation Fee Coordinator, 503-854-4208. Information about proposed fee changes can also be found on the Willamette National Forest Web site: www.fs.fed.us/r6/willamette. To send comments about fee proposals please submit by September 26, 2007 to: Detroit Ranger District, Attn: Rec Fee Program, HC 73 Box 320, Mill City, OR 97360 or at www.fs.fed.us/r6/willamette/recreation/rea-feechange/.

SUPPLEMENTARY INFORMATION: The Federal Recreation Lands Enhancement Act (Title VII, Pub. L. 108-447) directed the Secretary of Agriculture to publish a six month advance notice in the Federal Register whenever new recreation fee areas are established. Once public involvement is complete, these new fees will be reviewed by a Recreation Resource Advisory Committee prior to a final decision and implementation.

Dated: August 20, 2007.
Dallas Emch,
Forest Supervisor.

[FR Doc. 07-4140 Filed 8-23-07; 8:45 am]

BILLING CODE 3410-11-M